DEPARTMENT OF THE INTERIOR

National Park Service

[NPS-WASO-CONC-16844; PPWOBSADC0, PPMVSCS1Y.Y00000]

Notice of Extension of Concession Contracts

AGENCY: National Park Service, Interior.

ACTION: Public Notice.

SUMMARY: The National Park Service hereby gives public notice that it proposes to extend the following expiring concession contracts for a period of up to one (1) year, or until the effective date of a new contract, whichever occurs sooner.

DATES: Effective January 1, 2015.

FOR FURTHER INFORMATION CONTACT: Jo A. Pendry, Acting Chief, Commercial Services Program, National Park Service, 1201 Eye Street NW., 11th Floor, Washington, DC 20005, Telephone: 202-513-7156.

SUPPLEMENTARY INFORMATION: All of the listed concession authorizations will expire by their terms on or before December 31, 2014. Pursuant to 36 CFR 51.23, the National Park Service has determined the proposed short-term extensions are necessary to avoid interruption of visitor services and has taken all reasonable and appropriate steps to consider alternatives to avoid such interruption. The publication of this notice merely reflects the intent of the National Park Service but does not bind the National Park Service to extend any of the contracts listed below.

CONCID | Concessioner | Park unit
ACAD010-04 | National Park Tours and Transport, Inc | Acadia National Park.
ACAD011-04 | Oli's Trolley | Acadia National Park.
FIIS007-05 | Fire Island Concessions, LLC | Fire Island National Seashore.
GATE017-03 | JEN Marine Development, LLC | Gateway National Recreation Area.
GATE020-04 | Global Golf Services, Inc | Gateway National Recreation Area.
NERO001-05 | Eastern National | Northeast Region, National Park Service.
SAHI001-05 | The Theodore Roosevelt Association | Sagamore Hill National Historic Site.
BISO005-10 | The View | Big South Fork National River & Recreation Area.
BLRI003-04 | Parkway Inn, Inc | Blue Ridge Parkway.
CUIS001-04 | Lang Seafood Company, Inc | Cumberland Island National Seashore.
GRSM007-08 | Elizabeth Burns Cook | Great Smoky Mountains National Park.
HOSP001-04 | Hot Springs Advertising and Promotion Commission | Hot Springs National Park.
ISRO006-04 | Royale Air Service, Inc | Isle Royale National Park.
MORU001-05 | Xanterra Parks & Resorts, Inc | Mount Rushmore National Memorial.
OZAR002-05 | George Eugene and Eleanor Maggard | Ozark National Scenic Riverways.
OZAR005-05 | George Eugene and Eleanor Maggard | Ozark National Scenic Riverways.
OZAR007-05 | Joe and Darlene Devall | Ozark National Scenic Riverways.
OZAR008-05 | George Eugene and Eleanor Maggard | Ozark National Scenic Riverways.
OZAR010-05 | River Run Canoe & Tube Rental | Ozark National Scenic Riverways.
OZAR013-05 | Yellow Paddle Adventures, LLC | Ozark National Scenic Riverways.
OZAR014-05 | C & R Boating Company, Inc | Ozark National Scenic Riverways.
OZAR020-05 | Darrel Blackwell | Ozark National Scenic Riverways.
OZAR023-05 | The Landing Canoe Rental | Ozark National Scenic Riverways.
OZAR024-05 | Tom and Della Bedell | Ozark National Scenic Riverways.
OZAR025-05 | The Landing and Rosecliff Lodge | Ozark National Scenic Riverways.
OZAR028-05 | Jack and Lois Peters | Ozark National Scenic Riverways.
OZAR036-05 | George Eugene and Eleanor Maggard | Ozark National Scenic Riverways.
OZAR049-05 | The Landing and Rosecliff Lodge | Ozark National Scenic Riverways.
OZAR050-05 | John Kladiva | Ozark National Scenic Riverways.
CANY001-05 | Adventure Bound, Inc | Canyonlands National Park.
CANY002-05 | Sheri Griffith Holding, LLC | Canyonlands National Park.
CANY003-05 | NavTec Expeditions, Inc | Canyonlands National Park.
CANY004-05 | Outward Bound Wilderness | Canyonlands National Park.
CANY005-05 | Colorado River & Trail Expeditions, Inc | Canyonlands National Park.
CANY006-05 | O.A.R.S. Canyonlands, Inc | Canyonlands National Park.
CANY007-05 | Holiday River Expeditions, Inc | Canyonlands National Park.
CANY009-05 | Moki Mac River Expeditions, Inc. | Canyonlands National Park.
CANY010-05 | O.A.R.S. Canyonlands, Inc | Canyonlands National Park.
CANY011-05 | Western River Expeditions, Inc | Canyonlands National Park.
CANY012-05 | Niskanen & Jones, Inc | Canyonlands National Park.
CANY014-05 | Niskanen & Jones, Inc | Canyonlands National Park.
CANY015-05 | ARAMARK Sports and Entertainment, LLC | Canyonlands National Park.
CANY016-05 | Tour West, Inc | Canyonlands National Park.
CANY017-05 | Western River Expeditions, Inc | Canyonlands National Park.
CANY018-05 | American Wilderness Expeditions, Inc | Canyonlands National Park.
CANY019-05 | Niskanen & Jones, Inc | Canyonlands National Park.
CANY020-05 | Raft Moab, Inc | Canyonlands National Park.
CANY022-04 | OARS Canyonlands, Inc | Canyonlands National Park.
CANY024-04 | Niskanen & Jones, Inc | Canyonlands National Park.
CANY025-04 | NAVTEC Expeditions, Inc | Canyonlands National Park.
DINO001-04 | Adventure Bound, Inc | Dinosaur National Monument.
DINO002-04 | American River Touring Association, Inc | Dinosaur National Monument.
DINO003-04 | Outward Bound West | Dinosaur National Monument.
DINO005-04 | Holiday River Expeditions, Inc | Dinosaur National Monument.
DINO006-04 | Don Hatch River Expeditions, Inc. | Dinosaur National Monument.
DINO008-04 | Tyler Callantine | Dinosaur National Monument.
DINO009-04 | OARS Canyonlands, Inc | Dinosaur National Monument.
DINO010-05 | Wilkins Firewood and Beverage | Dinosaur National Monument.
DINO011-04 | National Outdoor Leadership School | Dinosaur National Monument.
DINO012-04 | Sheri Griffith Expeditions, Inc | Dinosaur National Monument.
DINO014-04 | Eagle Outdoor Sports, Inc | Dinosaur National Monument.
DINO016-04 | AA, LLC | Dinosaur National Monument.
GLCA021-05 | Strata Medical, LLC | Glen Canyon National Recreation Area.
GRTE034-05 | Wilderness Ventures | Grand Teton National Park.
GRTE038-05 | Teton Valley Ranch Camp Education Foundation, Inc | Grand Teton National Park.
GRTE046-04 | Gros Ventre River Ranch | Grand Teton National Park.
ROMO003-04 | Andrews, Bicknell, and Crothers, LLC | Rocky Mountain National Park.
YELL102-04 | Adventures Outfitting | Yellowstone National Park.
YELL103-04 | Triangle X Ranch | Yellowstone National Park.
YELL105-04 | Bear Paw Outfitters | Yellowstone National Park.
YELL106-04 | Jackson Hole Llamas | Yellowstone National Park.
YELL107-04 | Wyoming Backcountry Adventures, Inc | Yellowstone National Park.
YELL108-04 | Sunrise Pack Station, LLC | Yellowstone National Park.
YELL110-04 | Mountain Sky Guest Ranch, LLC | Yellowstone National Park.
YELL113-04 | 7D Ranch, LLC | Yellowstone National Park.
YELL115-04 | Gary Fales Outfitting, Inc | Yellowstone National Park.
YELL117-04 | Scott Sallee | Yellowstone National Park.
YELL118-04 | Yellowstone Mountain Guides, Inc. | Yellowstone National Park.
YELL120-04 | Slough Creek Outfitters, Inc | Yellowstone National Park.
YELL121-04 | Yellowstone Llamas | Yellowstone National Park.
YELL122-04 | Sheep Mesa Outfitters | Yellowstone National Park.
YELL123-04 | Castle Creek Outfitters and Guide Service | Yellowstone National Park.
YELL124-04 | Jake's Horses, Inc | Yellowstone National Park.
YELL125-04 | Big Bear Outfitters | Yellowstone National Park.
YELL126-04 | Yellowstone Wilderness Outfitters | Yellowstone National Park.
YELL127-04 | Medicine Lake Outfitters | Yellowstone National Park.
YELL130-04 | Skyline Guest Ranch & Guide Service, Inc | Yellowstone National Park.
YELL131-04 | Hell's A-Roarin' Outfitters, Inc | Yellowstone National Park.
YELL132-04 | Nine Quarter Circle Ranch, Inc | Yellowstone National Park.
YELL137-04 | Wilderness Pack Trips, Inc | Yellowstone National Park.
YELL138-04 | Yellowstone Roughriders, LLC | Yellowstone National Park.
YELL139-04 | Hoof Beat Recreational Services | Yellowstone National Park.
YELL140-04 | Black Otter, Inc | Yellowstone National Park.
YELL141-04 | Lost Fork Ranch | Yellowstone National Park.
YELL144-04 | Lone Mountain Ranch, Inc | Yellowstone National Park.
YELL145-04 | Dollar, Inc | Yellowstone National Park.
YELL146-04 | K Bar Z Guest Ranch and Outfitters, LLC | Yellowstone National Park.
YELL147-04 | Yellowstone Outfitters | Yellowstone National Park.
YELL148-04 | Kevin V. & Deborah A. Little | Yellowstone National Park.
YELL156-04 | Two Ocean Pass Outfitting | Yellowstone National Park.
YELL157-04 | Beartooth Plateau Outfitters, Inc. | Yellowstone National Park.
YELL158-04 | Wilderness Trails, Inc | Yellowstone National Park.
YELL159-04 | Colby Gines' Wilderness Adventures, LLC | Yellowstone National Park.
YELL162-04 | Grizzly Ranch | Yellowstone National Park.
YELL164-04 | TNT Ranch, LLC | Yellowstone National Park.
YELL165-04 | Gunsel Horse Adventures | Yellowstone National Park.
YELL166-04 | ER Ranch Corporation | Yellowstone National Park.
YELL168-04 | Llama Trips in Yellowstone | Yellowstone National Park.
YELL170-04 | Rockin' HK Outfitters, Inc | Yellowstone National Park.
ZION001-03 | Bryce-Zion Trail Rides, Inc | Zion National Park.
YOSE003-08 | Kirstie Dunbar-Kari | Yosemite National Park.

SUPPLEMENTARY INFORMATION: Under the provisions of the concession contract listed below and pending the completion of the public solicittion for a prospectus for a new concession contract, the National Park Service authorizes extension of visitors services until December 31, 2015, under the terms of the current contract as amended. The extension of operations does not affect any rights with respect to selection for award of a new concession contract.

CONCID | Concessioner | Park unit
VIIS008-05 | CBI Acquisitions, LLC | Virgin Islands National Park.
COLO007-05 | The Association for the Preservation of Virginia Antiquities | Colonial National Historical Park.

The National Park Service provided notice of its intention to extend the two concession contracts listed below to December 31, 2015, under a Federal Register Notice published on August 5, 2014. The National Park Service is correcting the park unit for the following:

CONCID | Concessioner | Park unit
LACL002-05 | Alaska's River Wild Lodge, LLC | Lake Clark National Park & Preserve.
LACL901-05 | Arno Krumm | Lake Clark National Park & Preserve.

Dated: December 18, 2014.
Lena McDowall,
Associate Director, Business Services.

[FR Doc. 2014-30482 Filed 12-29-14; 8:45 am]

BILLING CODE 4312-53-P